THE NATIONAL FOUNDATION ON THE ARTS AND THE HUMANITIES

Meetings of Humanities Panel

AGENCY: The National Endowment for the Humanities.

ACTION: Notice of meetings.

SUMMARY: Pursuant to the provisions of the Federal Advisory Committee Act (Pub. L. 92-463, as amended), notice is hereby given that the following meetings of Humanities Panels will be held at the Old Post Office, 1100 Pennsylvania Avenue, NW., Washington, DC 20506.

FOR FURTHER INFORMATION CONTACT: Heather C. Gottry, Acting Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of Title 5, United States Code.

1. Date: July 10, 2007.

Time: 8:30 a.m. to 5 p.m.

Room: 315.

Program: This meeting will review applications for African and Middle Eastern Studies (FA/FB) in Fellowships, submitted to the Division of Research Programs, at the May 1, 2007 deadline.

2. Date: July 11, 2007.

Time: 8:30 a.m. to 5 p.m.

Room: 415.

Program: This meeting will review applications for Asian Studies II (FA/FB) in Fellowships, submitted to the Division of Research Programs, at the May 1, 2007 deadline.

3. Date: July 11, 2007.

Time: 8:30 a.m. to 5 p.m.

Room: 315.

Program: This meeting will review applications for Asian Studies I (FA/FB) in Fellowships, submitted to the Division of Research Programs, at the May 1, 2007 deadline.

4. Date: July 12, 2007.

Time: 9 a.m. to 5:30 p.m.

Room: 421.

Program: This meeting will review applications for Art and Anthropology, submitted to the Office of Challenge Grants, at the May 1, 2007 deadline.

5. Date: July 12, 2007.

Time: 8:30 a.m. to 5 p.m.

Room: 315.

Program: This meeting will review applications for American History and Studies II (FA/FB) in Fellowships, submitted to the Division of Research Programs, at the May 1, 2007 deadline.

6. Date: July 12, 2007.

Time: 8:30 a.m. to 5 p.m.

Room: 415.

Program: This meeting will review applications for American History and Studies I (FA/FB) in Fellowships, submitted to the Division of Research Programs, at the May 1, 2007 deadline.

7. Date: July 16, 2007.

Time: 8:30 a.m. to 5 p.m.

Room: 415.

Program: This meeting will review applications for Digital Humanities Fellowships II (FX) in Digital Humanities Fellowships, submitted to the Division of Research Programs, at the May 1, 2007 deadline.

8. Date: July 17, 2007.

Time: 8:30 a.m. to 5 p.m.

Room: 315.

Program: This meeting will review applications for Humanities I (HR) in Faculty Research Awards, submitted to the Division of Research Programs, at the May 1, 2007 deadline.

9. Date: July 17, 2007.

Time: 9 a.m. to 5:30 p.m.

Room: 421.

Program: This meeting will review applications for Academic & Research Institutions, submitted to the Office of Challenge Grants, at the May 1, 2007 deadline.

10. Date: July 18, 2007.

Time: 8:30 a.m. to 5 p.m.

Room: 415.

Program: This meeting will review applications for Digital Humanities Fellowships I (FX) in Digital Humanities Fellowships, submitted to the Division of Research Programs, at the May 1, 2007 deadline.

11. Date: July 19, 2007.

Time: 8:30 a.m. to 5 p.m.

Room: 315.

Program: This meeting will review applications for British Literature I (FA) in Fellowships, submitted to the Division of Research Programs, at the May 1, 2007 deadline.

12. Date: July 19, 2007.

Time: 8:30 a.m. to 5 p.m.

Room: 415.

Program: This meeting will review applications for British Literature II (FB) in Fellowships, submitted to the Division of Research Programs, at the May 1, 2007 deadline.

13. Date: July 19, 2007.

Time: 9 a.m. to 5:30 p.m.

Room: 421.

Program: This meeting will review applications for History Organizations, submitted to the Office of Challenge Grants, at the May 1, 2007 deadline.

14. Date: July 23, 2007.

Time: 2 p.m. to 4 p.m.

Room: 421.

Program: This meeting, which will be by teleconference, will review applications for Digital Humanities, submitted to the Office of Challenge Grants, at the May 1, 2007 deadline.

15. Date: July 23, 2007.

Time: 8:30 a.m. to 5 p.m.

Room: 415.

Program: This meeting will review applications for Art History I (FA/FB) in Fellowships, submitted to the Division of Research Programs, at the May 1, 2007 deadline.

16. Date: July 23, 2007.

Time: 8:30 a.m. to 5 p.m.

Room: 315

Program: This meeting will review applications for Anthropology and Archaeology (FA/FB) in Fellowships, submitted to the Division of Research Programs, at the May 1, 2007 deadline.

17. Date: July 24, 2007.

Time: 8:30 a.m. to 5 p.m.

Room: 315.

Program: This meeting will review applications for Latin American Studies I (FA) in Fellowships, submitted to the Division of Research Programs, at the May 1, 2007 deadline.

18. Date: July 24, 2007.

Time: 8:30 a.m. to 5 p.m.

Room: 415.

Program: This meeting will review applications for Latin American Studies II (FB) in Fellowships, submitted to the Division of Research Programs, at the May 1, 2007 deadline.

19. Date: July 30, 2007.

Time: 8:30 a.m. to 5 p.m.

Room: 415.

Program: This meeting will review applications for Art History II (FA/FB) in Fellowships, submitted to the Division of Research Programs, at the May 1, 2007 deadline.

20. Date: July 30, 2007.

Time: 8:30 a.m. to 5 p.m.

Room: 315.

Program: This meeting will review applications for American Studies (FA/FB) in Fellowships, submitted to the Division of Research Programs, at the May 1, 2007 deadline.

21. Date: July 31, 2007.

Time: 8:30 a.m. to 5 p.m.

Room: 315.

Program: This meeting will review applications for European History I (FA) in Fellowships, submitted to the Division of Research Programs, at the May 1, 2007 deadline.

22. Date: July 31, 2007.

Time: 8:30 a.m. to 5 p.m.

Room: 415.

Program: This meeting will review applications for European History II (FB) in Fellowships, submitted to the Division of Research Programs, at the May 1, 2007 deadline.

Heather C. Gottry,
Acting Advisory Committee, Management Officer.

[FR Doc. E7-12250 Filed 6-22-07; 8:45 am]

BILLING CODE 7536-01-P